DEPARTMENT OF TRANSPORTATION

Office of the Secretary

Notice of Applications for Certificates of Public Convenience and Necessity and Foreign Air Carrier Permits Filed Under Subpart B (Formerly Subpart Q) During the Week Ending May 26, 2006

The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-18574.

Date Filed: May 22, 2006.

Due Date for Answers, Conforming Applications, or Motion to Modify Scope:June 12, 2006.

Description: Notice of Sunworld International Airlines, Inc., requesting that it be found fit, willing and able to resume interstate and foreign scheduled air transportation of property and mail on or before October 1, 2006.

Docket Number: OST-2005-22228 and OST-2006-24913.

Date Filed: May 25, 2006.

Due Date for Answers, Conforming Applications, or Motion to Modify Scope:June 15, 2006.

Description: Application of JetBlue Airways Corporation (“JetBlue”), requesting a certificate of public convenience and necessity authorizing JetBlue to engage in foreign scheduled air transportation of persons, property and mail between the United States (JFK) and Aruba (AUA), and such other relief as it may find to be in the public interest, including integration authority with JetBlue's other certificate authority as provided in the August 23, 2005 Notice issued in Docket OST-2005-22228.

Docket Number: OST-2006-24922.

Date Filed: May 26, 2006.

Due Date for Answers, Conforming Applications, or Motion to Modify Scope: June 16, 2006.

Description: Application of Jetstar Airways Pty. Limited, requesting a foreign air carrier permit to engage in scheduled foreign air transportation of persons, property and mail between the United States and Australia to the full extent authorized by the Air Transport Service Agreement between the United States and Australia.

Renee V. Wright,
Program Manager, Docket Operations, Federal Register Liaison.

[FR Doc. E6-9729 Filed 6-20-06; 8:45 am]

BILLING CODE 4910-9X-P